DEPARTMENT OF HEALTH AND HUMAN SERVICES

Administration for Children and Families

Proposed Information Collection Activity; Comment Request Proposed Projects:

Title: Computerized Support Enforcement Systems.

OMB No. 0980-0271.

Description: The information being collected is mandated by Section 454(16) which provides for the establishment and operation by the State agency, in accordance with an initial and annually updated advance planning document approved under section 452(d) of this state, of a statewide system meeting the requirements of section 454A. In addition, 454A(e)(1) requires that States create a State Case Registry (SCR) within their statewide automated child support systems, to include information on IV-D cases and non-IV-D orders established or modified in the State on or after October 1, 1998. Section 454A(e)(5) requires States to regularly update their cases in the SCR.

The data being collected for the Advance Planning Document is a combination of narrative, budget and schedules which are used to provide funding approvals on a annual basis and to monitor and oversee system development.

The data being collected for the State Case Registry is used to transmit mandatory data elements to the Federal Case Registry where it is used for matching against other data bases for the purposes of location of individuals, assets, employment and other child support related activities.

Respondents: The respondents are 54 State and Territorial Child Support Agencies.

Annual Burden Estimates
Instrument | Number of respondents | Number of responses per respondent | Average burden hours per response | Total burden hours
307.15 (APD) | 2 | 1 | 240 | 480
307.15 (APDU) | 54 | 1 | 60 | 3240
307.11(e)(1)(ii) Collection of non-IV-D data for SCR States | 54 | 25,200 | .046 | 62,597
307.11(e)(1)(ii) Collection of non-IV-D data for SCR-courts | 3,045 | 447 | .029 | 39,472
307.11(e)(3)(v) Collection of Child Data for IV-D cases for SRC-Courts | 3,045 | 213 | .083 | 53,833
307.11(f)(1) Case Data Transmitted from SCR to FCR: New cases and case updates | 54 | 46,379 | 2.82 | 130,788
Total |  |  |  | 290,410

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Information Services, 370 L'Enfant Promenade, SW., Washington, D.C. 20447, Attn: ACF Reports Clearance Officer. All requests should be identified by the title of the information collection.

The Department specifically requests comments on: (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: June 6, 2001.
Bob Sargis,
Reports Clearance Officer.

[FR Doc. 01-15123 Filed 6-14-01; 8:45 am]

BILLING CODE 4184-01-M